DEPARTMENT OF EDUCATION

Applications for New Awards; Comprehensive Centers Program

AGENCY: Office of Elementary and Secondary Education, Department of Education.

ACTION: Notice.

SUMMARY: The Department of Education (Department) is issuing a notice inviting applications for new awards for fiscal year (FY) 2024 for the Comprehensive Centers (CC) Program, Assistance Listing Number 84.283B. This notice relates to the approved information collection under OMB control number 1894-0006.

DATES:

Applications Available: May 16, 2024.

Deadline for Notice of Intent to Apply: June 7, 2024. Potential applicants are strongly encouraged to notify the Department of their intent to apply to support us in planning for a more efficient review of applications. Notification is optional and non-binding. For more information see Section IV: Application and Submission Information.

Deadline for Transmittal of Applications: June 24, 2024.

Deadline for Intergovernmental Review: August 22, 2024.

Pre-Application Webinar Information: No later than May 30, 2024, the Department will begin holding webinars to provide technical assistance to interested applicants on key application-related topics. Interested applicants are strongly encouraged to participate or review the accompanying materials available online. Updated information can be found on the Comprehensive Center website at https://oese.ed.gov/offices/office-of-formula-grants/program-and-grantee-support-services/comprehensive-centers-program/. Recordings of all webinars will be available on the Comprehensive Center website following the sessions.

ADDRESSES: For the addresses for obtaining and submitting an application, please refer to our Common Instructions for Applicants to Department of Education Discretionary Grant Programs, published in the Federal Register on December 7, 2022 (87 FR 75045), and available at https://www.federalregister.gov/documents/2022/12/07/2022-26554/common-instructions-for-applicants-to-department-of-education-discretionary-grant-programs.

FOR FURTHER INFORMATION CONTACT: Dr. Michelle Daley, U.S. Department of Education, 400 Maryland Avenue SW, Room 4B112, Washington, DC 20202-5970. Telephone: (202) 987-1057. Email: OESE.ComprehensiveCenters@ed.gov.

If you are deaf, hard of hearing, or have a speech disability and wish to access telecommunications relay services, please dial 7-1-1.

SUPPLEMENTARY INFORMATION:

Full Text of Announcement

I. Funding Opportunity Description

Purpose of Program: The Comprehensive Centers Program supports the establishment of Comprehensive Centers to provide capacity-building services to State educational agencies (SEAs), regional educational agencies (REAs), local educational agencies (LEAs), and schools that improve educational opportunities and outcomes, close achievement gaps, and improve the quality of instruction for all students, and particularly for groups of students with the greatest need, including students from low-income families and students attending schools implementing comprehensive support and improvement or targeted or additional targeted support and improvement activities under section 1111(d) of the Elementary and Secondary Education Act of 1965, as amended (ESEA).

Background: We have published elsewhere in this issue of the Federal Register a notice of final priorities, requirements, definitions, and selection criteria (NFP) for use in this and future Comprehensive Center Program competitions. In developing priorities for this program, the Department consulted with education stakeholders, including through Regional Advisory Committees (RACs) established under section 206 of the Educational Technical Assistance Act of 2002 (ETAA), Tribes, chief State school officers, chief executive officers of States, and Regional Educational Laboratory (REL) governing boards. Additionally, the Department received public comment on a notice of proposed priorities, requirements, definitions, and selection criteria for this program published in the Federal Register on January 23, 2024 (89 FR 4228).

The Department designed the priorities, requirements, definitions, and selection criteria for the Comprehensive Centers to support high-quality capacity-building services to State, regional, and local educational agencies and schools that improve educational opportunities and outcomes, close opportunity and achievement gaps, and improve the quality of instruction for all students. The Department seeks to maximize the ability of the Comprehensive Centers to be flexible and responsive to specific State and local client needs while also providing leadership and focused support on issues of national importance to support education systems through a time of continued challenge and transition. This approach aligns with “Raise the Bar: Lead the World” (RTB)—the Department's call to action to all stakeholders to transform pre-kindergarten through postsecondary education and unite the field around evidence-based strategies that advance educational equity and excellence for all students. Specifically, through the absolute priorities in this competition, the Department will establish a network of Comprehensive Centers (CCNetwork) comprised of a National Comprehensive Center (National Center), Regional Comprehensive Centers (Regional Centers), and Content Centers working together to support SEAs, REAs, Tribal education agencies (TEAs), LEAs, and schools to address areas of national need and advance several key focus areas, including to assist States and districts in academic achievement and excellence, to offer all students a comprehensive and rigorous education, to eliminate the educator shortage, to provide every student with a pathway to multilingualism, and to provide schools with adequate and equitable funding.

Priorities: This competition includes three absolute priorities and one competitive preference priority. Absolute Priorities 1, 2, and 3 are from the NFP. The competitive preference priority is from the Administrative Priorities for Discretionary Grant Programs published in the Federal Register on March 9, 2020 (85 FR 13640) (Administrative Priorities).

Absolute Priorities: For FY 2024 and any subsequent year in which we make awards from the list of unfunded applications from this competition, these priorities are absolute priorities. Under 34 CFR 75.105(c)(3), we consider only applications that meet one of these priorities. If an applicant wishes to apply to operate more than one Center, the applicant must submit a separate application for each Center it wishes to serve. See the “Limitation on Applications” section for more information.

These priorities are:

Absolute Priority 1: National Comprehensive Center.

Projects that propose to establish a National Center to (1) provide high-quality, high-impact technical assistance and capacity-building services to the Nation that are designed to improve educational opportunities, educator practice, and student outcomes and (2) coordinate the work of the CCNetwork to effectively use program resources to support evidence use and the implementation of evidence-based (as defined in 34 CFR 77.1) practices to close opportunity gaps and improve educational outcomes, particularly accelerating academic achievement in math and literacy for all students, and particularly for groups of students with the greatest need, including students from low-income families and students attending schools implementing comprehensive support and improvement or targeted or additional targeted support and improvement activities under section 1111(d) of the ESEA, in a manner that reaches and supports as many SEAs, REAs, TEAs, LEAs, and schools in need of services as possible.

The National Center must design and implement an effective approach to providing high-quality, useful, and relevant universal, targeted, and, as appropriate and in partnership with Regional Centers, intensive capacity-building services that are likely to achieve desired recipient outcomes. The approach must be driven by adult learning principles and incorporate implementation, improvement, and systems change frameworks, and must promote alignment across interconnected areas of need, programs, and agency systems.

The National Center must implement effective strategies for coordinating and collaborating with the Regional Centers and Content Centers to assess educational needs; coordinate common areas of support across Centers; communicate about the work of the CCNetwork, including sharing and disseminating information about CCNetwork services, tools, and resources to maximize the reach of the CCNetwork across clients and education stakeholders; coordinate with other federally funded providers regarding the work of the CCNetwork and help clients navigate available support; and support the selection, implementation, scale-up, and dissemination of evidence-based practices that will improve educational opportunities and outcomes, particularly academic achievement in math and literacy, and close achievement gaps for all students, particularly for groups of students with the greatest need, including students from low-income families and students attending schools implementing comprehensive support and improvement or targeted or additional targeted support and improvement activities under section 1111(d) of the ESEA.

Services must address: common high-leverage problems identified in Regional Center service plans (as outlined in the Program Requirements for the National Center); findings from finalized Department monitoring reports or audit findings; implementation challenges faced by States and LEAs related to teaching, learning, and development; needs of schools designated for improvement; needs related to closing opportunity and achievement gaps; needs to improve core academic instruction; and emerging education topics of national importance.

The National Center must provide universal and targeted capacity-building services that demonstrably assist SEAs, REAs, TEAs, LEAs, and Regional Center clients and recipients to—

(1) Implement approved ESEA Consolidated State Plans, with preference given to implementing and scaling evidence-based programs, practices, and interventions that directly benefit entities that have high percentages or numbers of students from low-income families as referenced in title I, part A of the ESEA (ESEA sec. 1113(a)(5));

(2) Implement and scale up evidence-based programs, practices, and interventions that lead to the increased capacity of SEAs and LEAs to address the unique educational challenges and improve outcomes of schools implementing comprehensive support and improvement activities or targeted or additional targeted support and improvement activities as referenced in title I, part A of the ESEA (ESEA sec. 1111(d)) and their students;

(3) Implement State accountability and assessment systems consistent with title I, part A of the ESEA (ESEA section 1111(b)-(d)), including the requirement for States to conduct resource allocation reviews under ESEA section 1111(d)(3)(A)(ii);

(4) Implement and scale up evidence-based programs, practices, and interventions that improve instruction and outcomes in core academic subjects, including math and literacy instruction;

(5) Address the unique educational obstacles faced by rural and Tribal students; and

(6) Implement and scale up evidence-based programs, practices, and interventions that address other emerging education topics of national importance that are not being met by another federally funded technical assistance provider (e.g., best practices in the use of education technology, student support strategies promoting digital literacy and access, or supporting asylum seekers and newly arrived immigrant children and youth or migratory students and their families).

An applicant under this priority must demonstrate how it will cultivate a network of national subject matter experts from a diverse set of perspectives or organizations to provide capacity-building support to Regional Centers and clients regarding the ESEA topical areas listed above and other emerging education issues of national importance.

Absolute Priority 2: Regional Centers.

Projects that propose to establish Regional Centers to provide high-quality, useful, and relevant intensive capacity-building services to State and local clients and recipients to assist them in selecting, implementing, and sustaining evidence-based programs, practices, and interventions that will result in improved educator practice and student outcomes, especially in math and literacy. The approach must be driven by adult learning principles and incorporate implementation, improvement, and systems change frameworks.

Each Regional Center must provide high-quality, useful, and relevant capacity-building services that demonstrably assist clients and recipients in—

(1) Carrying out Consolidated State Plans approved under the ESEA, with preference given to the implementation and scaling up of evidence-based programs, practices, and interventions that directly benefit recipients that have high percentages or numbers of students from low-income families as referenced in title I, part A of the ESEA (ESEA sec. 1113(a)(5)) and recipients that are implementing comprehensive support and improvement activities or targeted or additional targeted support and improvement activities as referenced in title I, part A of the ESEA (ESEA sec. 1111(d)), including the requirement for States to conduct resource allocation reviews required under ESEA section 1111(d)(3)(A)(ii);

(2) Implementing, scaling up, and sustaining evidence-based programs, practices, or interventions that focus on key initiatives that lead to LEAs and schools improving student outcomes. Key initiatives may include implementing evidence-based practices to help accelerate academic achievement in math and literacy (including high-impact tutoring, high-quality summer and after-school learning and enrichment, and effective interventions to reduce chronic absenteeism and increase student engagement), improving core academic instruction, implementing innovative and promising approaches to systems of high-quality assessment (including diagnostic, formative and interim assessments to inform instructional design), addressing educator shortages (including recruitment, preparation, and retention), or developing aligned and integrated agency systems;

(3) Addressing the unique educational obstacles faced by underserved populations, including students from low-income families, students of color, students living in rural areas, Tribal students, English learners, students in foster care, migratory children, immigrant children and youth, and other student populations with specific needs defined in the ESEA, which may include neglected, delinquent, and at-risk children and youth, and homeless children and youths; and

(4) Improving implementation of ESEA programs including collecting and reporting program data and addressing corrective actions or results from audit findings and ESEA program monitoring, conducted by the Department, that are programmatic in nature, at the request of the client.

Regional Centers must effectively work with the National Center and Content Centers, as needed, to assist clients in selecting, implementing, and sustaining evidence-based programs, policies, practices, and interventions; and must develop cost-effective strategies to make their services available to as many SEAs, REAs, TEAs, LEAs, and schools within the region in need of support as possible.

Applicants must propose to operate a Regional Center in one of the following regions:

Region 1 (Northeast): Connecticut, Massachusetts, Maine, New Hampshire, New York, Rhode Island, Vermont

Region 2 (Islands): Puerto Rico, Virgin Islands

Region 3 (Mid-Atlantic): Delaware, District of Columbia, Maryland, New Jersey, Pennsylvania

Region 4 (Appalachia): Kentucky, Tennessee, Virginia, West Virginia

Region 5 (Southeast): Georgia, North Carolina, South Carolina

Region 6 (Gulf): Alabama, Florida, Mississippi

Region 7 (Midwest): Indiana, Michigan, Ohio, Illinois, Iowa, Minnesota, Wisconsin

Region 8 (Central): Colorado, Kansas, Missouri, Nebraska, North Dakota, South Dakota, Wyoming

Region 9 (Southwest): Arkansas, Louisiana, New Mexico, Oklahoma, Texas

Region 10 (West): Arizona, California, Nevada, Utah

Region 11 (Northwest): Alaska, Oregon, Washington, Idaho, Montana

Region 12 (Pacific 1): American Samoa, Hawaii, Republic of the Marshall Islands

Region 13 (Pacific 2): Commonwealth of the Northern Mariana Islands, Federated States of Micronesia, Guam, Palau

Region 14: Bureau of Indian Education

Absolute Priority 3: Content Centers.

Projects that propose to establish Content Centers to provide high-quality, useful, and relevant targeted and universal capacity-building services in a designated content area of expertise to SEA, REA, TEA, and LEA clients designed to improve educational opportunities, educator practice, and student outcomes.

Content Centers must be designed to build the capacity of practitioners, education system leaders, public schools serving preschool through 12th grades (P-12) (which may include Head Start and community-based preschool), LEAs, and SEAs to use evidence in the designated content area. Capacity-building services may include, for example, developing evidence-based products and tools, and providing services that directly inform the use of evidence in a State or local policy or program or improved program implementation to achieve desired educational outcomes. The approach must be driven by adult learning principles and incorporate implementation, improvement, and systems change frameworks. Services must promote the use of the latest evidence, including research and data; be effectively delivered using best practices in technical assistance and training; and demonstrate a rationale for how they will result in improved recipient outcomes.

Content Centers must support Regional Centers, as needed, with subject matter expertise to enhance the intensive capacity-building services provided by the Regional Centers or to design universal or targeted capacity-building services to meet identified SEA, REA, TEA, or LEA needs.

Content Centers must effectively coordinate and align targeted and universal capacity-building services with the National Center, Regional Centers, and other federally funded providers, as appropriate, to address high-leverage problems and provide access to urgently needed services to build Centers' capacity to support SEAs and local clients. Content Centers must effectively coordinate with the National Center, Regional Centers, and other federally funded providers to assess potential client needs, avoid duplication of services, and widely disseminate products or tools to practitioners, education system leaders, and policymakers in formats that are high quality, easily accessible, understandable, and actionable to ensure the use of services by as many SEA, REA, TEA, and LEA recipients as possible.

Applicants must propose to operate a Content Center in one of the following areas:

(1) English Learners and Multilingualism. The Center on English Learners and Multilingualism must provide universal, targeted, and, as appropriate and in partnership with Regional Centers, intensive capacity-building services designed to support SEAs and LEAs to meet the needs of English learners beginning with early language acquisition and development, meet the needs of English learners with disabilities, and increase access to high-quality language programs so that they, along with all students, have the opportunity to become multilingual. The Center must also support the selection, implementation, and scale-up of evidence-based practices, in coordination with the National Clearinghouse for English Language Acquisition, related to meeting the needs of English learners.

(2) Early School Success: The Center for Early School Success must provide universal, targeted, and, as appropriate, and in partnership with Regional Centers, intensive capacity-building services designed to support SEAs and LEAs to implement comprehensive and aligned preschool to third-grade (PK-3) early learning systems in order to increase the number of children who experience success in early learning and achievement, including by increasing the number of children who meet challenging State academic standards; supporting effective transitions to kindergarten; partnerships with parents and families on everyday school attendance; and developmentally informed and evidence-based instructional practices in social and emotional development, early literacy, and math. The Center must support the selection, implementation, and scale-up of programs, policies, and practices, informed by research on child development, that can strengthen the quality of PK-3 learning experiences and support social, emotional, cognitive, and physical development.

(3) Fiscal Equity: The Center on Fiscal Equity must provide universal, targeted, and, as appropriate, and in partnership with Regional Centers, intensive capacity-building services designed to support SEAs and LEAs in strengthening equitable and adequate resource allocation strategies, including the allocation of State and local resources; improving the quality and transparency of fiscal data at the school level; and prioritizing supports for students and communities with the greatest need, including schools implementing comprehensive support and improvement or targeted or additional targeted support and improvement activities under section 1111(d) of the ESEA in collaboration with the National Center. The Center must support the selection, implementation, and scale-up of evidence-based programs, policies, and practices that promote responsible fiscal planning and management, and effective and permissible uses of ESEA formula funds, including through combining those funds with other available and allowable Federal, State, and local funds (“blending and braiding”) and considering how ESEA funds may interact with and complement other Federal programs, such as IDEA, Medicaid, and Head Start to improve student opportunities and outcomes.

(4) Strengthening and Supporting the Educator Workforce: The Center on Strengthening and Supporting the Educator Workforce must provide universal, targeted, and, as appropriate and in partnership with Regional Centers, intensive capacity-building services designed to support SEAs to support their LEAs, schools, and their partners (e.g., educator preparation programs, workforce boards, labor unions) in designing and scaling practices that establish and enhance high-quality, comprehensive, evidence-based, and affordable educator pathways, including educator residency and Grow Your Own programs, as well as emerging pathways into the profession such as registered apprenticeship programs for teachers; and in improving educator diversity, recruitment, and retention. The Center must support the selection, implementation, and scale-up of evidence-based programs, policies, and practices that will support States, LEAs, and their partners in addressing educator shortages and providing all students with highly qualified educators across the P-12 continuum, including through increased compensation and improved working conditions; high-quality, comprehensive, evidence-based, and affordable educator preparation, including educator residency and Grow Your Own programs, as well as emerging pathways into the profession such as registered apprenticeship programs for teachers; providing opportunities for teacher leadership and career advancement; ongoing professional learning throughout educators' careers, including implementing evidence-based strategies for effective teaching and learning; strengthening novice teacher induction; and supporting and diversifying the educator workforce, as well as other actions to improve learning conditions and educator well-being.

Competitive Preference Priority: For FY 2024 and any subsequent year in which we make awards from the list of unfunded applications from this competition, this priority is a competitive preference priority. Under 34 CFR 75.105(c)(2)(i) we award an additional 3 points to an application that meets this priority.

This priority is:

Applications From New Potential Grantees (0 or 3 points). Under this priority, an applicant must demonstrate that the applicant has never received a grant, including through membership in a group application submitted in accordance with 34 CFR 75.127-75.129, under the program from which it seeks funds.

Requirements: For FY 2024 and any subsequent year in which we make awards from the list of unfunded applications from this competition, the following program requirements and application requirements apply. These requirements are from the NFP.

Program Requirements: Grantees must meet the following program requirements.

Program Requirements for All Centers: National, Regional, and Content Center grantees under this program must:

(1) Develop service plans annually for carrying out the technical assistance and capacity-building activities to be delivered by the Center in response to educational challenges facing students, practitioners, and education system leaders. Plans must include: High-leverage problems to be addressed, including identified client needs, capacity-building services to be delivered, time-based outcomes (i.e., short-term, mid-term, long-term), responsible personnel, key technical assistance partners, milestones, outputs, dissemination plans, fidelity measures, if appropriate, and any other elements specified by the Department. The annual service plans must be an update to the Center's five-year plan submitted as part of the initial grant application and account for changes in client needs.

(2) Develop and implement capacity-building services, including tools and resources, in partnership with State and local clients and recipients to reflect and address specific client needs and contexts and promote sustainable evidence utilization to address identified educational challenges.

(3) Develop and implement an effective performance management and evaluation system that integrates continuous improvement to promote effective achievement of client outcomes. The system must include methods to measure and monitor progress towards agreed upon outcomes, outputs, and milestones and to measure the reach, use, and impact of the services being delivered to ensure capacity-building services are implemented as intended, reaching intended clients and recipients, and achieving desired results. Progress monitoring must include periodic assessment of client satisfaction and timely identification of changes in State contexts that may impact the project's success. The performance management system must include strategies to report on defined program performance measures.

(4) Develop and implement a stakeholder engagement system to regularly communicate, engage, and coordinate, using feedback to inform improvement, across organizational levels (Federal, State, and local), and facilitate regular engagement of stakeholders involved in or affected by proposed services. This system must provide regular and ongoing opportunities for outreach activities (e.g., ongoing promotion of services and products to potential and current recipients, particularly at the local level) and regular opportunities for engagement with potential beneficiaries or participants involved in or impacted by proposed school improvement activities (e.g., students, parents, educators, administrators, Tribal leaders) to ensure services reflect their needs.

(5) Develop and implement a high-quality personnel management system to efficiently obtain and retain the services of nationally recognized technical and content experts and other consultants with direct experience working with SEAs, REAs, and LEAs. The Center must ensure that personnel have the appropriate expertise to deliver high-quality capacity-building services that meet client and recipient need and be staffed at a level sufficient for achieving the goals of its assigned projects and responsibilities.

(6) Develop and implement a comprehensive communication and dissemination plan that includes strategies to disseminate information in multiple formats and mediums (e.g., evidence-based practice tool kits, briefs, informational webinars) including through CCNetwork websites, social media, and other methods as appropriate, and strategies to measure and monitor the use of the information it disseminates. The plan must include approaches to determine, at the outset of each project, in consultation with clients, the most effective modality and methodology for capturing evidence-based practices and lessons learned, dissemination strategies customized and based on needs of the targeted audience(s), and strategies to monitor and measure audience engagement and use of information and products of the Center. Centers must work with partners to disseminate products through networks in which the targeted audiences are most likely to seek or receive information, with the goal of expanding the reach of Centers to the largest number of recipients possible.

(7) Identify and enter into partnership agreements with federally funded providers, State and national organizations, businesses, and industry experts, as applicable, to support States in the implementation and scaling-up of evidence-based programs, practices, and interventions, as well as reduce duplication of services and engagement burden to States. Where appropriate, the agreements should document how the partnerships might advance along a continuum to effectively meet program and client goals.

(8) Within 90 days of receiving funding for an award, demonstrate to the Department that it has secured client and partner commitments to carry out proposed annual service plans.

(9) Participate in a national evaluation of the Comprehensive Centers Program.

Program Requirements for National Comprehensive Center: In addition to the requirements for all Centers, National Center grantees under this program must:

(1) Design and implement robust needs-sensing activities and processes to consult with and integrate feedback from the Department, Regional and Content Centers, and advisory boards that surface high-leverage problems that could be effectively addressed in developing the national annual service plan.

(2) Collaborate with Regional and Content Centers to implement universal and targeted services for recipients to address high-leverage problems identified in the annual service plan. In providing targeted services (e.g., multi-State and cross-regional peer-to-peer exchanges or communities of practice on problems), the National Center must provide opportunities for recipients to learn from their peers and subject matter experts and apply evidence-based practices and must define tangible, achievable capacity-building outcomes for recipient participation. Universal services must be grounded in evidence-based practices, be produced in a manner that recipients are most likely to use, be shared via multiple digital platforms, such as the CCNetwork website, social media, and other channels as appropriate, and be relevant for a variety of education stakeholders, including the general public.

(3) Develop and implement a strategy to recruit and retain a comprehensive cadre of national subject matter experts that includes qualified education practitioners, researchers, policy professionals, and other consultants with (1) direct experience working in or with SEAs, REAs, TEAs and LEAs and (2) in-depth expertise in specific subject areas with an understanding of State contexts available to support universal and targeted services of the National Center and intensive capacity-building services of Regional Centers. Cadre experts must have a proven record of designing and implementing effective capacity-building services, using evidence effectively, and delivering quality adult learning experiences or professional development experiences that meet client and recipient needs and must have recognized subject matter expertise including publishing in peer-reviewed journals and presenting at national conferences on the ESEA programs or content areas for which they are engaged as experts to provide universal, targeted, or intensive capacity building.

(4) Reserve not less than one half of the annual budget to provide universal, targeted, and, as needed, intensive services to address topics 1-5 enumerated in the priority for this Center and as approved by the Department in the annual service plan.

(5) Include in the communications and dissemination plan, and implement processes for outreach activities (e.g., regular promotion of services and products to clients and potential and current recipients), use of feedback loops across organizational levels (Federal, State, and local), regular engagement and coordination with the Department, Regional Centers, and partner organizations (e.g., federally funded providers), and engagement of stakeholders involved in or impacted by proposed school improvement activities.

(6) Design and implement communications and dissemination vehicles for the CCNetwork, including maintaining the CCNetwork website with an easy-to-navigate design that meets government or industry recognized standards for accessibility, including compliance with section 504 of the Rehabilitation Act of 1973, and maintain a consistent media presence, in collaboration with Regional and Content Centers and the Department Communications office, that promotes increased engagement.

(7) Develop peer learning opportunities for Regional and Content Center staff (and other partners, as appropriate) to address implementation challenges and scale effective practices to improve service delivery across the CCNetwork.

(8) Collect and share information about services provided through the CCNetwork for the purpose of coordination, collaboration, and communication across Centers and other providers, including an annual analysis of service plans to identify and disseminate information about services rendered across the CCNetwork.

(9) Ensure that the Project Director is capable of managing all aspects of the Center and is either staffed at 1 FTE or there are two Co-Project Directors each at a minimum of 0.75 FTE. The Project Director or Co-Project Directors and all key personnel must be able to provide services at the intensity, duration, and modality appropriate to achieving agreed-upon milestones, outputs, and outcomes described in annual service plans.

(10) Reserve not less than one third of the budget to address the program requirements for CCNetwork coordination (requirements 5 through 8).

Program Requirements for Regional Centers: In addition to the requirements for all Centers, Regional Center grantees under this program must:

(1) Actively coordinate and collaborate with the REL serving their region. Coordination must include annual joint need sensing in a manner designed to comprehensively inform service delivery across both programs while reducing burden on State agencies. The goals of this coordination and collaboration are to share, synthesize, and apply information, ideas, and lessons learned; to enable each type of provider to focus on its designated role; to ensure that work is non-duplicative; to streamline and simplify service provision to States and LEAs; and to collaborate on projects to better support regional stakeholders.

(2) Consult with a broad range of stakeholders, including chief State school officers and other SEA leaders, TEAs, LEAs, educators, students, and parents, and integrate their feedback in developing the annual service plan to reflect the needs of all States (and to the extent practicable, of LEAs) within the region to be served.

(3) In developing the annual service plan, ensure services are provided to support students and communities with the highest needs, including recipients: (i) that have high percentages or numbers of students from low-income families as referenced in title I, part A of the ESEA (ESEA sec. 1113(a)(5)); (ii) that are implementing comprehensive support and improvement activities or targeted or additional targeted support and improvement activities as referenced in title I, part A of the ESEA (ESEA sec. 1111(d)); (iii) in rural areas; and (iv) serving student populations with demonstrated needs unmet or under-met through other Federal, State, or local interventions.

(4) Explore and provide opportunities to connect peers within and across regions.

(5) Collaborate with the National Center and Content Centers, as appropriate, including to support client and recipient participation in targeted capacity-building services, and obtain and retain the services of nationally recognized content experts through partnership with the National Center, Content Centers, or other federally funded providers.

(6) Support the participation of Regional Center staff in CCNetwork peer learning opportunities, including sharing information about effective practices in the region, to extend the Center's reach to as many SEAs, REAs, TEAs, LEAs, and schools in need of services as possible while also learning about effective capacity-building approaches to enhance the Center's ability to provide high-quality services.

(7) Within 90 days of receiving funding for an award, provide to the Department copies of partnership agreements with the REL(s) in the region that the Center serves and, as appropriate, other Department-funded technical assistance providers that are charged with supporting comprehensive, systemic changes in States or Department-funded technical assistance providers with particular expertise (e.g., early learning or instruction for English language learners) relevant to the region's service plan. Partnership agreements must define processes for coordination and support collaboration to meet relevant program requirements.

(8) Be located in the region the Center serves. The Project Director must be capable of managing all aspects of the Center and be either at a minimum of 0.75 FTE or there must be two Co-Project Directors each at a minimum of 0.5 FTE. The Project Director or Co-Project Directors and key personnel must also be able to provide on-site services at the intensity, duration, and modality appropriate to achieving agreed-upon milestones, outputs, and outcomes described in annual service plans.

Program Requirements for Content Centers: In addition to the requirements for all Centers, Content Center grantees under this program must:

(1) Consult and integrate feedback from the Department and National and Regional Centers in developing the annual service plan to inform high-quality tools, resources, and overall technical assistance in priority areas.

(2) Collaborate with Regional Centers to address specific requests for assistance from States within the regions and strengthen Regional Center staff knowledge and expertise on the evidence base and effective practices within its specific content area.

(3) Produce high-quality, universal capacity-building services, and identify, organize, select, and translate existing key research knowledge and Department guidance related to the Center's content area and examples of workable strategies and systems for implementing provisions and programs that have produced positive outcomes for schools and students, and communicate the information in ways that are highly relevant and useful to State- and local-level policymakers, practitioners, and relevant stakeholders.

(4) Collaborate with the National Center and Regional Centers to convene States and LEAs, researchers, and other experts, including other Federal entities and providers of technical assistance as identified by the Department, to learn from each other about practical strategies for implementing ESEA provisions and programs related to the Center's area of focus.

(5) Support the participation of Content Center staff in CCNetwork peer learning opportunities with the goal of providing high-quality services while reaching as many SEAs, REAs, TEAs, LEAs, and schools in need of services as possible.

(6) Within 90 days of receiving funding for an award, provide copies to the Department of partnership agreements with Department-funded technical assistance providers that are charged with supporting comprehensive, systemic changes in States or Department-funded technical assistance providers with particular expertise relevant to the Center's content area. Partnership agreements must define processes for coordination and support collaboration to meet relevant program requirements.

(7) The Project Director must be capable of managing all aspects of the Center and be either at a minimum of 0.75 FTE or there must be two Co-Project Directors each at a minimum of 0.5 FTE. The Project Director or Co-Project Directors and all key personnel must be able to provide services at the intensity, duration, and modality appropriate to achieving agreed-upon milestones, outputs, and outcomes described in annual service plans.

Application Requirements: Applicants must meet the following application requirements.

Application Requirements for All Centers:

(1) Present an approach to the proposed project for operating the Comprehensive Center that clearly establishes the critical educational challenges proposed to be addressed by the Center, the impact the Center plans to achieve, including the proposed scope of services in relation to the number of SEAs, REAs, TEAs, LEAs, and, as appropriate, schools served, with respect to specific State and local outcomes that would represent significant achievement in advancing the efforts of State and local systems to improve educational opportunities and student outcomes, and proposes how the Center will efficiently and effectively provide appropriate capacity-building services to achieve the desired outcomes.

(2) Present applicable regional, State, and local educational needs, including relevant data demonstrating the identified needs, and including the perspectives of underrepresented groups, that could be addressed through the proposed capacity-building approach to implement and scale up evidence-based programs, practices, and interventions.

(3) Demonstrate how key personnel possess subject matter expert knowledge of statutory requirements, regulations, and policies related to ESEA programs, current education issues, and policy initiatives for supporting the implementation and scaling up of evidence-based programs, practices, and interventions.

(4) Demonstrate expertise in providing highly relevant and highly effective technical assistance (e.g., that is co-designed with clients; demonstrably addresses authentic needs based on needs-sensing activities; is timely, relevant, useful, clear and measurable; and results in demonstrable improvements or outcomes), including by demonstrating expertise in the current research on adult learning principles, coaching, and implementation science that will drive the applicant's capacity-building services; how the applicant has successfully supported clients to achieve desired outcomes; and how the applicant will promote self-sufficiency and sustainability of State- and local-led school improvement activities.

(5) Present a logic model (as defined in this notice) informed by research or evaluation findings that demonstrates a rationale (as defined in 34 CFR 77.1) explaining how the project is likely to improve or achieve relevant and expected outcomes. The logic model must communicate how the proposed project would achieve its expected outcomes (short-term, mid-term, and long-term), and provide a framework for both the formative and summative evaluations of the project consistent with the applicant's performance management plan. Include a description of underlying concepts, assumptions, expectations, beliefs, and theories, as well as the relationships and linkages among these variables, and any empirical support for this framework.

(6) Present a management plan that describes the applicant's proposed approach to managing the project to meet all program requirements related to needs assessment, stakeholder engagement, communications and dissemination, personnel management, and partnerships.

(7) Present a performance management and evaluation plan that describes the applicant's proposed approach to meeting the program requirements related to performance management, including the applicant's proposed strategy to report on defined program performance measures, and describes the criteria for determining the extent to which capacity-building services proposed in annual service plans were implemented as intended; recipient outcomes were met (short-term, midterm, and long-term); recipient capacity was developed; and services reached and were used by intended recipients.

(8) Include in the budget a line item for an annual set-aside of five percent of the grant amount to support emerging needs that are consistent with the proposed project's intended outcomes, as those needs are identified in consultation with, and approved by, the OESE program officer. With approval from the program officer, the project must reallocate any remaining funds from this annual set-aside no later than the end of the third quarter of each budget period.

Application Requirements for the National Center: In addition to meeting the application requirements for all Centers, a National Center applicant must:

(1) Describe the proposed approach to leading coordination and collaboration of the CCNetwork, and demonstrate expertise and experience in leading communication and digital engagement strategies to attract and sustain the involvement of education stakeholders, including, but not limited to: implementing a robust web and social media presence, overseeing customer relations management, providing editorial support to Regional and Content Centers, and utilizing web analytics to improve content engagement.

(2) Describe the proposed approach to providing targeted capacity-building services, including how the applicant intends to collaborate with Regional Centers to identify potential recipients and estimate how many SEAs, REAs, TEAs, and LEAs it has the capacity to reach; how it will measure the readiness and capacity of potential recipients; and how it will measure the extent to which targeted capacity-building services achieve intended recipient outcomes and result in increased recipient capacity (and specifically, increase capacity in one or more of the four dimensions of capacity-building).

(3) Describe the proposed approach to universal capacity-building services, including how many and which recipients it plans to reach and how the applicant intends to: measure the extent to which products and services developed address common problems; support recipients in the selection, implementation, and monitoring of evidence-based practices; improve the use of evidence with regard to emerging national education trends; and build recipient capacity in at least one of the four dimensions of capacity-building.

Application Requirements for Regional Centers: In addition to meeting the application requirements for all Centers, a Regional Center applicant must—

(1) Describe the proposed approach to intensive capacity-building services, including identification of intended recipients based on available data in each of the content areas identified, alignment of proposed capacity-building services to client needs, and engagement of clients who may not initiate contact to request services. The applicant must also describe how it intends to measure the readiness of clients and recipients to work with the Center; co-design projects and define outcomes; measure and monitor client and recipient capacity across the four dimensions of capacity-building; and measure the outcomes achieved throughout and at the conclusion of a project.

(2) Demonstrate that proposed key personnel have the appropriate subject matter and technical assistance expertise to deliver high-quality, intensive services that meet client and recipient needs similar to those in the region to be served.

Application Requirements for Content Centers: In addition to meeting the application requirements for all Centers, a Content Center applicant must—

(1) Describe the proposed approach to carry out targeted capacity-building services that increase the use of evidence-based products or tools regarding the designated content area amongst practitioners, education system leaders, elementary schools and secondary schools, LEAs, REAs and TEAs, and SEAs.

(2) Describe the proposed approach to providing universal capacity-building services, including how it will develop evidence-based products or tools regarding the designated content area; widely disseminate such products or tools to practitioners, education system leaders, and policymakers in formats that are high quality, easily accessible, understandable, and actionable; identify intended recipients; and align proposed capacity-building services to client needs.

(3) Demonstrate that key personnel have appropriate subject matter and technical assistance expertise to translate evidence into high-quality technical assistance services and products for State and local clients, including expertise applying adult-learning principles and implementation science to the delivery of technical assistance services and products.

Definitions: The definitions of “capacity-building services,” “client,” “collaboration,” “coordination,” “educator,” “English learner,” “four dimensions of capacity-building services,” “high-leverage problem,” “immigrant children and youth,” “intensive capacity-building services,” “key personnel,” “migratory child,” “outcomes,” “recipient,” “regional educational agency,” “targeted capacity-building services,” “three tiers of capacity-building services,” “tribal educational agency,” and “universal capacity-building services” are from the NFP.

The definitions of “milestone,” and “outputs” are from the Notice of Final Priorities, Requirements, Definitions, and Performance Measures—Comprehensive Centers Program published in the Federal Register on April 4, 2019 (84 FR 13122) (2019 NFP).

The definitions of “logic model” and “demonstrates a rationale” are from 34 CFR 77.1.

Capacity-building services means assistance that strengthens an individual's or organization's ability to engage in continuous improvement and achieve expected outcomes.

Client means the organization with which the Center enters into agreement for negotiated capacity-building services. The client is engaged in defining the high-leverage problems, capacity-building services, and time-based outcomes for each project noted in the Center's annual service plan. Representatives of clients include but are not limited to Chief State School Officers or their designees, LEA leaders, and other system leaders.

Collaboration means exchanging information, altering activities, and sharing in the creation of ideas and resources to enhance the capacity of one another for mutual benefit to accomplish a common goal.

Coordination means exchanging information, altering activities, and synchronizing efforts to make unique contributions to shared goals.

Demonstrates a rationale means a key project component included in the project's logic model is informed by research or evaluation findings that suggest the project component is likely to improve relevant outcomes.

Educator means an individual who is a teacher (including an early education teacher), principal or other school leader, administrator, specialized instructional support personnel (e.g., school psychologist, counselor, school social worker, librarian, early intervention service personnel), paraprofessional, faculty, and others.

English learner means an individual who is an English learner as defined in section 8101(20) of the ESEA, or an individual who is an English language learner as defined in section 203(7) of the Workforce Innovation and Opportunity Act.

Four dimensions of capacity-building services are:

(1) Human capacity means development or improvement of individual knowledge, skills, technical expertise, and ability to adapt and be resilient to policy and leadership changes.

(2) Organizational capacity means structures that support clear communication and a shared understanding of an organization's visions and goals, and delineated individual roles and responsibilities in functional areas.

(3) Policy capacity means structures that support alignment, differentiation, or enactment of local, State, and Federal policies and initiatives.

(4) Resource capacity means tangible materials and assets that support alignment and use of Federal, State, private, and local funds.

High-leverage problems means problems that (1) if addressed could result in substantial improvements for groups of students with the greatest need, including for students from low-income families and for students attending schools implementing comprehensive support and improvement or targeted or additional targeted support and improvement activities under ESEA section 1111(d)); (2) are priorities for education policymakers, particularly at the State level; and (3) require intensive capacity-building services to achieve outcomes that address the problem.

Immigrant children and youth have the meaning ascribed in section 3201(5) of the ESEA.

Intensive capacity-building services means assistance often provided on-site and requiring a stable, ongoing relationship between the Comprehensive Center and its clients and recipients, as well as periodic reflection, continuous feedback, and use of evidence-based improvement strategies. This category of capacity-building services should support increased recipient capacity in more than one dimension of capacity-building services and result in medium-term and long-term outcomes at one or more system levels.

Key personnel means any personnel considered to be essential to the work being performed on the project.

Logic model (also referred to as a theory of action) means a framework that identifies key project components of the proposed project (i.e., the active “ingredients” that are hypothesized to be critical to achieving the relevant outcomes) and describes the theoretical and operational relationships among the key project components and relevant outcomes.

Migratory child has the meaning ascribed it in section 1309(3) of the ESEA.

Milestone means an activity that must be completed. Examples include: Identifying key district administrators responsible for professional development, sharing key observations from needs assessment with district administrators and identified stakeholders, preparing a logic model, planning for State-wide professional development, identifying subject matter experts, and conducting train-the-trainer sessions.

Outcomes means demonstrable effects of receiving capacity-building services and must reflect the result of capacity built in at least one of the four dimensions of capacity building. “Outcomes” includes short-term outcomes, medium-term outcomes, and long-term outcomes:

(1) Short-term outcomes means effects of receiving capacity-building services after 1 year.

(2) Medium-term outcomes means effects of receiving capacity-building services after 2 to 3 years.

(3) Long-term outcomes means effects of receiving capacity-building services after 4 or more years.

Outputs means products and services that must be completed. Examples include: Needs assessment, logic model, training modules, evaluation plan, and 12 workshop presentations.

Note: A product output under this program would be considered a deliverable under the open licensing regulations at 2 CFR 3474.20.

Recipient means organizations including, but not limited to, SEAs, LEAs, REAs, TEAs, and schools that have received “intensive” and “targeted” capacity-building services and products from Regional Centers, or that received “targeted” or “universal” capacity-building services and products from the National Center or Content Centers.

Regional educational agency means educational agencies that serve regional areas within a State.

Targeted capacity-building services means assistance based on needs common to multiple clients and recipients and not extensively individualized. A relationship is established between the recipient(s), the National Center or Content Center, and Regional Center(s), as appropriate. This category of capacity-building services includes one-time, labor-intensive events, such as facilitating strategic planning or hosting national or regional conferences. It can also include services that extend over a period of time, such as facilitating a series of conference calls, virtual or in-person meetings, or learning communities on single or multiple topics that are designed around the needs of the recipients. Facilitating communities of practice can also be considered targeted capacity-building services.

Tribal educational agency has the meaning ascribed in section 6132(b)(3) of the ESEA.

Universal capacity-building services means assistance and information provided to independent users through their own initiative, involving minimal interaction with National or Content Center staff. This category of capacity-building services includes information or products, such as newsletters, guidebooks, policy briefs, or research syntheses, downloaded from the Center's website by independent users, and may include one-time, invited or offered webinar or conference presentations by National or Content Center staff. Brief communications or consultations by National or Content Center staff with recipients, either by telephone or email, are also considered universal services.

Program Authority: Section 203 of the Educational Technical Assistance Act of 2002 (ETAA) (20 U.S.C. 9601 et seq.).

Note: Projects will be awarded and must be operated in a manner consistent with the nondiscrimination requirements contained in Federal civil rights laws.

Applicable Regulations: (a) The Education Department General Administrative Regulations in 34 CFR parts 75, 77, 79, 81, 82, 84, 86, 97, 98, and 99. (b) The Office of Management and Budget Guidelines to Agencies on Governmentwide Debarment and Suspension (Nonprocurement) in 2 CFR part 180, as adopted and amended as regulations of the Department in 2 CFR part 3485. (c) The Uniform Administrative Requirements, Cost Principles, and Audit Requirements for Federal Awards in 2 CFR part 200, as adopted and amended as regulations of the Department in 2 CFR part 3474. (d) The NFP. (e) The 2019 NFP. (f) The Administrative Priorities.

Note: The regulations in 34 CFR part 86 apply to institutions of higher education only.

II. Award Information

Type of Award: Cooperative agreement.

Note: The details of the Department's involvement will be included in the Cooperative Agreement with each grantee.

Estimated Available Funds: $46,153,544.

The total amount of funds available for the Comprehensive Center program for FY 2024 is $50 million, of which we intend to use an estimated $46,153,544 for this competition. Of that, an estimated $6 million will be used to fund the National Center, an estimated $35,153,544 will be used to fund Regional Centers, and an estimated $5 million will be used to fund Content Centers. FY 2024 funds will support awards for the first budget period of the project, which is the first 12 months of the project period. Funding for the subsequent budget periods of years two through five (FY 2025 through FY 2028) is contingent on appropriation levels. Estimates of funding levels for FY 2024 and subsequent budget periods are provided below, as well as the estimated range of awards.

Contingent upon the availability of funds and the quality of applications, we may make additional awards in subsequent years from the list of unfunded applications from this competition.

Estimated Range of Awards:

For the National Center: $6,000,000 to $6,500,000.

National Center: $6,000,000

For Regional Centers: $1,000,000 to $5,500,000.

The following are the estimated annual award amounts by region. Applicants should propose project budgets that do not exceed the estimated amounts for each Center. Annual funding estimates are based on a funding formula that considers factors aligned to regional needs as outlined in section 203 of the ETAA. Regional Center awards will be allocated in FY 2024 and subsequent years based on the established formula and may take into consideration changes in regional needs and the availability of funds.

Region 1 (Northeast): $2,380,489

Region 2 (Islands): $1,250,000

Region 3 (Mid-Atlantic): $1,931,528

Region 4 (Appalachia): $1,804,312

Region 5 (Southeast): $2,262,959

Region 6 (Gulf): $2,450,688

Region 7 (Midwest): $4,608,921

Region 8 (Central): $2,379,571

Region 9 (Southwest): $5,039,769

Region 10 (West): $4,487,656

Region 11 (Northwest): $3,057,651

Region 12 (Pacific 1): $1,250,000

Region 13 (Pacific 2): $1,250,000

Region 14 (Bureau of Indian Education): $1,000,000

For Content Centers: $1,150,000 to $1,550,000.

Center on English Learners and Multilingualism: $1,150,000

Center for Early School Success: $1,150,000

Center on Fiscal Equity: $1,150,000

Center on Strengthening and Supporting the Educator Workforce: $1,550,000

Estimated Number of Awards: 19. The Secretary intends to make 14 awards to support Regional Centers to serve States within defined geographic boundaries; 1 award to support the National Center; and 4 awards to support Content Centers.

Note: The Department is not bound by any estimates in this notice.

Note: An additional Content Center, funded in response to 2016 appropriations language and a new authority in the ESEA, focuses on students at risk of not attaining full literacy skills due to a disability. That Center is not being awarded as part of this competition.

Project Period: Up to 60 months.

III. Eligibility Information

1. Eligible Applicants: Research organizations, institutions, agencies, IHEs, or partnerships among such entities, or individuals, with the demonstrated ability or capacity to carry out the activities described in this notice, including regional entities that carried out activities under the Educational Research, Development, Dissemination, and Improvement Act of 1994 (as such Act existed on the day before November 5, 2002) and title XIII of the Elementary and Secondary Education Act of 1965 (as such title existed on the day before January 8, 2002). A group of eligible entities may apply as a consortium, in accordance with the requirements in 34 CFR 75.127-129.

2. a. Cost Sharing or Matching: This competition does not require cost sharing or matching.

b. Indirect Cost Rate Information: This program uses an unrestricted indirect cost rate. For more information regarding indirect costs, or to obtain a negotiated indirect cost rate, please see www2.ed.gov/about/offices/list/ocfo/intro.html.

c. Administrative Cost Limitation: This program does not include any program-specific limitation on administrative expenses. All administrative expenses must be reasonable and necessary and conform to Cost Principles described in 2 CFR part 200 subpart E of the Uniform Guidance.

3. Subgrantees: Under 34 CFR 75.708(b) and (c) a grantee under this competition may award subgrants—to directly carry out project activities described in its application—to the following types of entities: Research organizations, institutions, agencies, IHEs, or partnerships among such entities, or individuals, with the demonstrated ability or capacity to carry out the activities described in this notice. The grantee may award subgrants to entities it has identified in an approved application.

4. Limitation on Applications: An application must clearly respond to either Priority 1—National Center, Priority 2—Regional Centers, or Priority 3—Content Centers. If an applicant wishes to apply to operate more than one Center, the applicant must submit a separate application for each Center it wishes to serve. The Department intends to create 19 separate funding slates, one for the National Center, one for each Regional Center, and one for each Content Center. The Department anticipates funding a single award on each funding slate.

IV. Application and Submission Information

1. Application Submission Instructions: Applicants are required to follow the Common Instructions for Applicants to Department of Education Discretionary Grant Programs, published in the Federal Register on December 7, 2022 (87 FR 75045) and available at www.federalregister.gov/documents/2022/12/07/2022-26554/common-instructions-for-applicants-to-department-of-education-discretionary-grant-programs, which contain requirements and information on how to submit an application.

2. Submission of Proprietary Information: Given the types of projects that may be proposed in applications for the Comprehensive Center Program FY 2024 competition, your application may include business information that you consider proprietary. In 34 CFR 5.11 we define “business information” and describe the process we use in determining whether any of that information is proprietary and, thus, protected from disclosure under Exemption 4 of the Freedom of Information Act (5 U.S.C. 552, as amended). Because we plan to make successful applications available to the public, you may wish to request confidentiality of business information.

Consistent with Executive Order 12600, please designate in your application any information that you believe is exempt from disclosure under Exemption 4. In the appropriate Appendix section of your application, under “Other Attachments Form,” please list the page number or numbers on which we can find this information. For additional information please see 34 CFR 5.11(c).

3. Intergovernmental Review: This program competition is subject to Executive Order 12372 and the regulations in 34 CFR part 79. Information about Intergovernmental Review of Federal Programs under Executive Order 12372 is in the application package for this competition.

4. Funding Restrictions: We reference regulations outlining funding restrictions in the Applicable Regulations section of this notice.

5. Recommended Page Limit: The application narrative is where you, the applicant, address the selection criteria that reviewers use to evaluate your application. We recommend that you (1) limit the application narrative to no more than 100 pages and (2) use the following standards:

• A “page” is 8.5″ x 11″, on one side only, with 1″ margins at the top, bottom, and both sides.

• Double space (no more than three lines per vertical inch) all text in the application narrative, including titles, headings, footnotes, quotations, references, and captions, as well as all text in charts, tables, figures, and graphs.

• Use a font that is either 12 point or larger or no smaller than 10 pitch (characters per inch).

• Use one of the following fonts: Times New Roman, Courier, Courier New, or Arial.

The recommended page limit does not apply to the cover sheet; the budget section, including the narrative budget justification; the assurances and certifications; or the one-page abstract, the resumes, the bibliography, or the letters of support. However, the recommended page limit does apply to all of the application narrative.

6. Notice of Intent to Apply: The Department will be able to review grant applications more efficiently if we know the approximate number of applicants that intend to apply. Therefore, we strongly encourage each potential applicant to notify us of their intent to submit an application. To do so, please email the program contact person listed under FOR FURTHER INFORMATION CONTACT with the subject line “Intent to Apply,” and include the applicant's name and a contact person's name and email address. Applicants that do not submit a notice of intent to apply may still apply for funding; applicants that do submit a notice of intent to apply are not bound to apply or bound by the information provided.

V. Application Review Information

1. Selection Criteria: The selection criteria for this competition are from the NFP.

The maximum possible score for addressing all selection criteria is 100 points for Regional and Content Centers, and 125 points for the National Center. The maximum score for each criterion is included in parentheses following the title of the specific selection criterion. Each criterion also includes the factors that reviewers will consider in determining the extent to which an applicant meets the criterion.

Priority 1—National Center Selection Criteria:

(a) Approach to Capacity Building (Up to 35 points). In determining the overall quality of the approach to capacity building of the proposed project, the Secretary considers the following factors.

(1) The extent to which the applicant demonstrates an exceptional approach to developing and delivering high-quality, useful, and relevant capacity-building services that are likely to achieve desired recipient outcomes, including targeted and universal capacity-building services that would be expected to assist SEAs, REAs, TEAs, LEAs, and Regional Center clients and recipients, including those who do not proactively request assistance, to address the activities described in the priority. (20 points)

(2) The extent to which the proposed approach to capacity building provides strategies that address the technical assistance needs of State and local educational systems in key areas of identified need, as evidenced by in-depth knowledge and understanding of implementation challenges faced by States; evidence-based practices related to teaching, learning, and development; needs of schools designated for improvement; needs to improve core instruction; and emerging education topics of national importance. (15 points)

(b) Quality of Project Design (Up to 50 points). In determining the quality of the project design of the proposed center for which the applicant is applying, the Secretary considers the following factors.

(1) The extent to which the proposed performance management and evaluation system and processes demonstrate an exceptional approach to integrating continuous improvement processes and evaluation that will result in regular and ongoing improvement in the quality of the services provided and increase the likelihood that recipient outcomes are achieved. (10 points)

(2) The extent to which the proposed stakeholder engagement system is likely to result in a high level of engagement with multiple potential beneficiaries or participants involved in or impacted by the proposed capacity-building activities to ensure that the proposed services reflect their needs, are relevant and useful, and reach the largest number of recipients possible. (10 points)

(3) The extent to which the proposed personnel management system includes effective processes to enable hiring, developing, supervising, and retaining a team of subject matter and technical assistance experts, consultants, and professional staff, and ensure availability of appropriate expertise and staffing at a level sufficient to effectively execute the responsibilities of key personnel to achieve the goals of the project. (10 points)

(4) The extent to which the proposed partnerships represent an intentional approach to collaboration that is likely to reduce client burden and to ensure that Federal resources are being used most efficiently and effectively to meet a variety of needs across federally funded providers. (5 points)

(5) The extent to which the proposed project represents an exceptional management approach to coordination, collaboration, and communication of the complex work of the CCNetwork. (15 points)

(c) Subject Matter and Technical Assistance Expertise (Up to 40 points). In determining the subject matter and technical assistance expertise of key project personnel, the Secretary considers the extent to which the applicant encourages applications for employment from persons who are members of groups that have historically been underrepresented based on race, color, national origin, gender, age, or disability. (5 points)

In addition, the Secretary considers the following factors.

(1) The extent to which key project personnel demonstrate the required subject matter expertise and relevant knowledge, understanding, and experience in operating and administering State and local educational systems to effectively support recipients. (10 points)

(2) The extent to which the applicant has demonstrated exceptional technical assistance expertise in providing high-quality, timely, relevant, and useful technical assistance and capacity-building services to State and local educational systems. (10 points)

(3) The extent to which the applicant has demonstrated the ability to develop new and ongoing partnerships with leading experts and organizations nationwide or regionally, as appropriate, that enhance its ability to provide high-quality technical assistance and subject-matter expertise. (10 points)

(4) The extent to which the applicant has demonstrated ability in operating a project of such scope. (5 points)

Priority 2—Regional Centers Selection Criteria:

(a) Approach to Capacity Building (Up to 35 points). In determining the overall quality of the approach to capacity building of the proposed project, the Secretary considers the following factors.

(1) The extent to which the applicant demonstrates an exceptional approach to developing and delivering high-quality, useful, and relevant capacity-building services that are likely to achieve desired recipient outcomes, including intensive capacity services that would be expected to assist clients and recipients to address the activities described in the priority. (20 points)

(2) The extent to which the proposed approach to capacity building provides strategies that address the technical assistance needs of State and local educational systems in key areas of identified need, as evidenced by in-depth knowledge and understanding of the specific educational goals and priorities of the States to be served by the applicant, including emerging priorities based on State-led reform efforts, and the applicable State and regional demographics, policy contexts, and other factors and their relevance to improving educational opportunities and outcomes, closing achievement gaps, and improving instruction. (15 points)

(b) Quality of Project Design (Up to 35 points). In determining the quality of the project design of the proposed Center for which the applicant is applying, the Secretary considers the following factors.

(1) The extent to which the proposed performance management and evaluation system and processes demonstrate an exceptional approach to integrating continuous improvement processes and evaluation that will result in regular and ongoing improvement in the quality of the services provided and increase the likelihood that recipient outcomes are achieved. (10 points)

(2) The extent to which the proposed stakeholder engagement system is likely to result in a high level of engagement with multiple potential beneficiaries or participants involved in or impacted by the proposed capacity-building activities to ensure that the proposed services reflect their needs, are delivered in a manner that is relevant and useful, and reach the largest number of recipients possible. (10 points)

(3) The extent to which the proposed personnel management system includes effective processes to enable hiring, developing, supervising, and retaining a team of subject matter and technical assistance experts, consultants and professional staff, and ensure availability of appropriate expertise and staffing at a level sufficient to effectively execute the responsibilities of key personnel to achieve the goals of the project. (10 points)

(4) The extent to which the proposed partnerships represent an intentional approach to collaboration that is likely to reduce client burden and to ensure that Federal resources are being used most efficiently and effectively to meet a variety of needs across federally funded providers. (5 points)

(c) Subject Matter and Technical Assistance Expertise (Up to 30 points). In determining the subject matter and technical assistance expertise of key project personnel, the Secretary considers the extent to which the applicant encourages applications for employment from persons who are members of groups that have historically been underrepresented based on race, color, national origin, gender, age, or disability. (5 points)

In addition, the Secretary considers the following factors.

(1) The extent to which key project personnel demonstrate the required subject matter expertise and relevant knowledge, understanding, and experience in operating and administering State and local educational systems to effectively support recipients. (10 points)

(2) The extent to which the applicant has demonstrated exceptional technical assistance expertise in providing high-quality, timely, relevant, and useful technical assistance and capacity-building services to State and local educational systems. (10 points)

(3) The extent to which the applicant has demonstrated the ability to develop new and ongoing partnerships with leading experts and organizations nationwide or regionally, as appropriate, that enhance its ability to provide high-quality technical assistance and subject-matter expertise. (5 points)

Priority 3—Selection Criteria for Content Centers.

(a) Approach to Capacity Building (Up to 35 points). In determining the overall quality of the approach to capacity building of the proposed project, the Secretary considers the following factors.

(1) The extent to which the applicant demonstrates an exceptional approach to developing and delivering high-quality, useful, and relevant capacity-building services that are likely to achieve desired recipient outcomes, including targeted and universal capacity-building services that would be expected to assist clients and recipients, including those who do not proactively request assistance, to address activities described in the priority related to the designated content area. (20 points)

(2) The extent to which the proposed approach to capacity building provides strategies that address the technical assistance needs of State and local educational systems in key areas of identified need, as evidenced by in-depth knowledge and understanding of State technical assistance needs and evidence-based practices related to the Content Center priority for which the applicant is applying. (15 points)

(b) Quality of Project Design (Up to 35 points). In determining the quality of the project design of the proposed Center for which the applicant is applying, the Secretary considers the following factors.

(1) The extent to which the proposed performance management and evaluation system and processes demonstrate an exceptional approach to integrating continuous improvement processes and evaluation that will result in regular and ongoing improvement in the quality of the services provided and increase the likelihood that recipient outcomes are achieved. (10 points)

(2) The extent to which the proposed stakeholder engagement system is likely to result in a high level of engagement with multiple potential beneficiaries or participants involved in or impacted by the proposed capacity-building activities to ensure that the proposed services reflect their needs, are delivered in a manner that is relevant and useful, and reach the largest number of recipients possible. (10 points)

(3) The extent to which the proposed personnel management system includes effective processes to enable hiring, developing, supervising, and retaining a team of subject matter and technical assistance experts, consultants and professional staff, and ensure availability of appropriate expertise and staffing at a level sufficient to effectively execute the responsibilities of key personnel to achieve the goals of the project. (10 points)

(4) The extent to which the proposed partnerships represent an intentional approach to collaboration that is likely to reduce client burden and to ensure that Federal resources are being used most efficiently and effectively to meet a variety of needs across federally funded providers. (5 points)

(c) Subject Matter and Technical Assistance Expertise (Up to 30 points). In determining the subject matter and technical assistance expertise of key project personnel, the Secretary considers the extent to which the applicant encourages applications for employment from persons who are members of groups that have historically been underrepresented based on race, color, national origin, gender, age, or disability. (5 points)

In addition, the Secretary considers the following factors.

(1) The extent to which key project personnel demonstrate the required subject matter expertise and relevant knowledge, understanding, and experience in operating and administering State and local educational systems to effectively support recipients. (10 points)

(2) The extent to which the applicant has demonstrated exceptional technical assistance expertise in providing high-quality, timely, relevant, and useful technical assistance and capacity-building services to State and local educational systems. (10 points)

(3) The extent to which the applicant has demonstrated the ability to develop new and ongoing partnerships with leading experts and organizations nationwide or regionally, as appropriate, that enhance its ability to provide high-quality technical assistance and subject-matter expertise. (5 points)

2. Review and Selection Process: We remind potential applicants that in reviewing applications in any discretionary grant competition, the Secretary may consider, under 34 CFR 75.217(d)(3), the past performance of the applicant in carrying out a previous award, such as the applicant's use of funds, achievement of project objectives, and compliance with grant conditions. The Secretary may also consider whether the applicant failed to submit a timely performance report or submitted a report of unacceptable quality.

In addition, in making a competitive grant award, the Secretary requires various assurances, including those applicable to Federal civil rights laws that prohibit discrimination in programs or activities receiving Federal financial assistance from the Department (34 CFR 100.4, 104.5, 106.4, 108.8, and 110.23).

Additional factors we consider in selecting an application for an award are as follows:

Geographic distribution: Under the ETAA (20 U.S.C. 9602 (a)(2)(A)), the Secretary must ensure that not less than one Comprehensive Center is established in each of the 10 geographic regions served by the Regional Educational Laboratories. The Secretary will consider the location of the proposed Regional Centers in the selection and negotiation of cooperative agreements to ensure that this requirement is met.

Tiebreaker: If two or more applicants for any one Center receive the same total scores, the Secretary will select among the tied applications, as appropriate, according to the following factors:

1. An application that scores higher on a selection criterion following this order will be ranked higher than an application with the same overall score: Quality of Project Design; Subject Matter and Technical Assistance Expertise; and the Approach to Capacity Building.

2. If still tied after implementing the first tiebreaker, the applicant that is a new potential grantee (as measured by the Competitive Preference Priority) will be ranked higher than an application with the same overall score.

3. If still tied after implementing the second tiebreaker, the applicant that has gone the longest without receiving a Comprehensive Centers grant will be ranked higher than an applicant with the same overall score.

4. If still tied after implementing the third tiebreaker, an applicant that has not received the highest overall score in this competition for any other Center will be ranked higher than an applicant that has received the highest overall score in this competition for any other Center.

3. Risk Assessment and Specific Conditions: Consistent with 2 CFR 200.206, before awarding grants under this program the Department conducts a review of the risks posed by applicants. Under 2 CFR 200.208, the Secretary may impose specific conditions and, under 2 CFR 3474.10, in appropriate circumstances, high-risk conditions on a grant if the applicant or grantee is not financially stable; has a history of unsatisfactory performance; has a financial or other management system that does not meet the standards in 2 CFR part 200, subpart D; has not fulfilled the conditions of a prior grant; or is otherwise not responsible.

4. Integrity and Performance System: If you are selected under this competition to receive an award that over the course of the project period may exceed the simplified acquisition threshold (currently $250,000), under 2 CFR 200.206(a)(2) we must make a judgment about your integrity, business ethics, and record of performance under Federal awards—that is, the risk posed by you as an applicant—before we make an award. In doing so, we must consider any information about you that is in the integrity and performance system (currently referred to as the Federal Awardee Performance and Integrity Information System (FAPIIS)), accessible through the System for Award Management. You may review and comment on any information about yourself that a Federal agency previously entered and that is currently in FAPIIS.

Please note that, if the total value of your currently active grants, cooperative agreements, and procurement contracts from the Federal Government exceeds $10,000,000, the reporting requirements in 2 CFR part 200, appendix XII, require you to report certain integrity information to FAPIIS semiannually. Please review the requirements in 2 CFR part 200, appendix XII, if this grant plus all the other Federal funds you receive exceed $10,000,000.

5. In General: In accordance with the Office of Management and Budget's guidance, 2 CFR part 200, all applicable Federal laws, and relevant Executive guidance, the Department will review and consider applications for funding pursuant to this notice inviting applications in accordance with:

(a) Selecting recipients most likely to be successful in delivering results based on the program objectives through an objective process of evaluating Federal award applications (2 CFR 200.205);

(b) Prohibiting the purchase of certain telecommunication and video surveillance services or equipment in alignment with section 889 of the National Defense Authorization Act of 2019 (Pub. L. 115—232) (2 CFR 200.216);

(c) Providing a preference, to the extent permitted by law, to maximize use of goods, products, and materials produced in the United States (2 CFR 200.322); and

(d) Terminating agreements in whole or in part to the greatest extent authorized by law if an award no longer effectuates the program goals or agency priorities (2 CFR 200.340).

VI. Award Administration Information

1. Award Notices: If your application is successful, we notify your U.S. Representative and U.S. Senators and send you a Grant Award Notification (GAN); or we may send you an email containing a link to access an electronic version of your GAN. We may notify you informally, also.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Open Licensing Requirements: Unless an exception applies, if you are awarded a grant under this competition, you will be required to openly license to the public grant deliverables created in whole, or in part, with Department grant funds. When the deliverable consists of modifications to pre-existing works, the license extends only to those modifications that can be separately identified and only to the extent that open licensing is permitted under the terms of any licenses or other legal restrictions on the use of pre-existing works. Additionally, a grantee or subgrantee that is awarded competitive grant funds must have a plan to disseminate these public grant deliverables. This dissemination plan can be developed and submitted after your application has been reviewed and selected for funding. For additional information on the open licensing requirements please refer to 2 CFR 3474.20.

4. Reporting: (a) If you apply for a grant under this competition, you must ensure that you have in place the necessary processes and systems to comply with the reporting requirements in 2 CFR part 170 should you receive funding under the competition. This does not apply if you have an exception under 2 CFR 170.110(b).

(b) At the end of your project period, you must submit a final performance report, including financial information, as directed by the Secretary. If you receive a multiyear award, you must submit an annual performance report that provides the most current performance and financial expenditure information as directed by the Secretary under 34 CFR 75.118. The Secretary may also require more frequent performance reports under 34 CFR 75.720(c). For specific requirements on reporting, please go to www.ed.gov/fund/grant/apply/appforms/appforms.html.

Note: Consistent with 2 CFR 200.315(b) and other applicable law, the Department may make reports, deliverables, outputs, or materials produced by Comprehensive Centers publicly available. This may include requesting that the Comprehensive Centers disseminate reports, deliverables, outputs, or materials to a wide audience (e.g., through their websites, social media, or other public-facing channels).

5. Performance Measures: For the purposes of reporting under 34 CFR 75.110, the following measures established in the 2019 NFP will be used by the Department to evaluate the effectiveness of each Center, as well as the Comprehensive Centers Program as a whole:

Measure 1: The extent to which Comprehensive Center clients are satisfied with the quality, usefulness, and relevance of services provided.

Measure 2: The extent to which Comprehensive Centers provide services and products to a wide range of recipients.

Measure 3: The extent to which Comprehensive Centers demonstrate that capacity-building services were implemented as intended.

Measure 4: The extent to which Comprehensive Centers demonstrate recipient outcomes were met.

6. Continuation Awards: In making a continuation award under 34 CFR 75.253, the Secretary considers, among other things, whether a grantee has made substantial progress in achieving the goals and objectives of the project; whether the grantee has expended funds in a manner that is consistent with its approved application and budget; and, if the Secretary has established performance measurement requirements, whether the grantee has made substantial progress in achieving the performance targets in the grantee's approved application.

In making a continuation award, the Secretary also considers whether the grantee is operating in compliance with the assurances in its approved application, including those applicable to Federal civil rights laws that prohibit discrimination in programs or activities receiving Federal financial assistance from the Department (34 CFR 100.4, 104.5, 106.4, 108.8, and 110.23).

VII. Other Information

Accessible Format: On request to the program contact person listed under FOR FURTHER INFORMATION CONTACT, individuals with disabilities can obtain this document and a copy of the application package in an accessible format. The Department will provide the requestor with an accessible format that may include Rich Text Format (RTF) or text format (txt), a thumb drive, an MP3 file, braille, large print, audiotape, or compact disc, or other accessible format.

Electronic Access to This Document: The official version of this document is the document published in the Federal Register.You may access the official edition of the Federal Register and the Code of Federal Regulations at www.govinfo.gov. At this site, you can view this document, as well as all other documents of this Department published in the Federal Register, in text or Portable Document Format (PDF). To use PDF, you must have Adobe Acrobat Reader, which is available free at the site.

You may also access documents of the Department published in the Federal Register by using the article search feature at www.federalregister.gov. Specifically, through the advanced search feature at this site, you can limit your search to documents published by the Department.

Adam Schott,
Principal Deputy Assistant Secretary, Delegated the Authority to Perform the Functions and Duties of the Assistant Secretary, Office of Elementary and Secondary Education.

[FR Doc. 2024-09876 Filed 5-10-24; 8:45 am]

BILLING CODE 4000-01-P